DEPARTMENT OF COMMERCE

National Oceanic and Atmospheric Administration

50 CFR Part 660

[I.D. 032703B]

RIN 0648-AN79, 0648-AP54, 0648-AP55

Fisheries Off West Coast States and in the Western Pacific; Precious Coral Fisheries, Fishery Management Plan (FMP) Amendment 4; Bottomfish and Seamount Groundfish Fisheries, FMP Amendment 6; Pelagic Fisheries, FMP Amendment 8; Crustacean Fisheries, FMP Amendment 10

AGENCY: National Marine Fisheries Service (NOAA), Commerce.

ACTION: Notice of availability of supplemental FMP amendments; request for comments.

SUMMARY: NMFS announces that the Western Pacific Fishery Management Council (Council) has prepared supplements to FMP Amendment 4 to the Fishery Management Plan for the Precious Coral Fisheries of the Western Pacific Region (Amendment 4) fisheries, FMP Amendment 6 to the Fishery Management Plan for the Bottomfish and Seamount Groundfish Fisheries of the Western Pacific Region (Amendment 6), fisheries FMP Amendment 8 to the Fishery Management Plan for the Pelagic Fisheries of the Western Pacific Region (Amendment 8) for fisheriesand FMP Amendment 10 to the Fishery Management Plan for Crustaceans Fisheries of the Western Pacific Region (Amendment 10) of the Western Pacific Region. The supplemental amendments, which have been submitted to NMFS for Secretarial review, are intended to implement certain revisions made by the provisions of the Sustainable Fisheries Act (SFA) revisions to the Magnuson-Stevens Fishery Conservation and Management Act (Magnuson-Stevens Act). Included in the supplemental amendments are bycatch provisions for the bottomfish and seamount groundfish and pelagic FMPs fisheries; overfishing definitions and control rules for the bottomfish and seamount groundfish, pelagics, and crustacean FMPs fisheries; and definitions of “fishing communities” in Hawaii for the bottomfish and seamount groundfish, pelagics, crustaceans, and precious corals FMPs fisheries.

DATES: Written comments on the supplemental FMP amendments must be received on or before June 6, 2003.

ADDRESSES: Written comments on any of the supplemental FMP amendments should be sent to Dr. Charles Karnella, Administrator, Pacific Islands Area Office, NMFS, 1601 Kapiolani Boulevard, Suite 1110, Honolulu, HI 96814, or faxed to 808-973-2941. Comments will not be accepted via e-mail or the internet.

Copies of the amendment documents are available from Kitty Simonds, Executive Director, Western Pacific Fishery Management Council, 1164 Bishop St., Suite 1400, Honolulu, HI 96813. The documents are also available on the following website: http://www.wpcouncil.org.

FOR FURTHER INFORMATION CONTACT: Kitty Simonds, phone: (808) 522-8220; fax: (808) 522-8226.

SUPPLEMENTARY INFORMATION: The Magnuson-Stevens Act requires each Regional Fishery Management Council to submit fishery management plans or plan amendments to NMFS for review and approval, disapproval, or partial approval. The Magnuson-Stevens Act also requires NMFS, immediately upon receiving a fishery management plan or amendment, to publish notification in the Federal Register that the fishery management plan or plan amendment is available for public review and comment. NMFS will consider the public comments received during the comment period described above in determining whether to approve, disapprove, or partially disapprove the fishery management plan or plan amendment.

The Council has prepared supplements to Amendment 4, Amendment 6, Amendment 8, and Amendment 10 that address bycatch issues; establish overfishing definitions and describe control rules; and designate define fishing communities in the State of Hawaii, consistent with the certain SFA amendments made by the 1996 SFA to the Magnuson-Stevens Act. Then on February 3, 1999, NMFS approved portions of the Council's FMP amendments pertaining to essential fish habitat provisions, identification of commercial, recreational and charter fishing sectors; overfishing definition for precious corals; bycatch provisions for crustaceans and precious coral fisheries; and designation definition of fishing communities for American Samoa, Guam, and the Commonwealth of the Northern Mariana Islands.

The supplemental amendments provide new specifications of overfishing criteria. Maximum sustainable yield-based control rules and overfishing thresholds are defined for the Northwestern Hawaiian Islands (NWHI) lobster stock and multi-species complexes of bottomfish and seamount groundfish and western Pacific pelagic management unit species. Stock status determination criteria, including maximum fishing mortality thresholds and minimum stock size thresholds, are defined for the lobster stock, bottomfish, and pelagic stock complexes. The bottomfish and seamount groundfish FMP already contains measures to prevent overfishing and to rebuild overfished stocks. These include a moratorium on the harvest of armorhead to rebuild this stock in the seamount groundfish fishery, a prohibition on the use of destructive bottomfish fishing methods, area closures around the main Hawaiian Islands, and limited access programs in the implementation of bottomfish NWHI to limit fishing effort. Additional measures to prevent overfishing or to rebuild overfished stocks that may be considered by the Council in the future include additional area closures, seasonal closures, reduction in the number of available limited access permits, establishment of limited access programs in areas other than the NWHI, limits on catch per trip, limits on effort per trip, and fleet-wide limits on catch and effort.

The pelagics FMP already includes measures to prevent local overfishing and to keep stocks from becoming locally overfished through a limited access program for the Hawaii-based longline fishery, prohibition on the use of drift gill nets, and various longline area closures in Federal waters around American Samoa, Guam, and Hawaii. Additional measures that may be considered by the Council in the event of overfishing include reductions in the number of limited access longline permits, size restrictions, etc.

The crustaceans FMP contains measures to prevent overfishing and keep NWHI stocks from becoming overfished including gear restrictions, trap specifications (to allow juvenile lobsters to escape), a limited access permit program for the NWHI commercial lobster fishery, a limit on the number of lobster traps allowed per vessel, seasonal and area closures, and annual bank-specific harvest guidelines. Additional measures that may be considered by the Council, if needed, include adjustments to the NWHI seasonal closure, temporary fishery closures, and size or species harvest restrictions.

Supplemental FMP amendments pertaining to bycatch issues describe bycatch levels and patterns in the bottomfish and seamount groundfish and pelagic fisheries. Management measures currently require all primary and relief operators (captains) in the NWHI limited access fisheries to complete one-time protected species workshop. The supplemental amendments describe recent improvements in bycatch reduction and bycatch reporting, as well as non-regulatory management initiatives to further minimize bycatch and reduce bycatch mortality, and improve the measurement of bycatch and analyses thereof in these fisheries. These initiatives include fishery outreach programs that foster awareness of bycatch issues, research into fishing methods and gear modification to reduce bycatch and bycatch mortality, development of markets for low value fish that would otherwise be discarded by fishermen, and improvements to information collection for bycatch.

The supplemental amendments for the bottomfish and seamount groundfish, pelagics, crustaceans, and precious corals FMPs define each of the major inhabited main Hawaiian islands as a fishing community. This island-by-island designation definition of fishing communities is based on analyses indicating that the social and economic cohesion of fishery participants is strongest at the island level. Fishing, support services, and fishery infrastructure are critically important to all of Hawaii's populated areas. As such fishing communities in Hawaii are not distinguished according to a particular fishery or gear type. The supplemental amendments define Hawaii's fishing communities as the islands of Niihau, Kauai, Oahu, Molokai, Maui, Lanai, and Hawaii.

Public comments on any or all of the supplemental FMP amendments must be received by June 6, 2003, to be considered by NMFS in the decision whether to approve, disapprove, or partially approve the amendments.

The supplemental amendments contain no implementing regulations.

Authority: 16 U.S.C. 1801 et. seq.

Dated: April 2, 2003.
Richard W. Surdi,
Acting Director, Office of Sustainable Fisheries, National Marine Fisheries Service.

[FR Doc. 03-8398 Filed 4-4-03; 8:45 am]

BILLING CODE 3510-22-S